DEPARTMENT OF HOMELAND SECURITY

[DHS-2008-0039]

Collection of Alien Biometric Data Upon Exit From the United States at Air and Sea Ports of Departure; United States Visitor and Immigrant Status Indicator Technology Program

AGENCY: National Protection and Programs Directorate, Department of Homeland Security.

ACTION: Notice of Hearing.

SUMMARY: The Department of Homeland Security (DHS), United States Visitor and Immigrant Status Indicator Technology (US-VISIT) Program, is issuing this notice to advise the public of a public hearing on June 13, 2008, in Arlington, Virginia, on “Collection of Alien Biometric Data upon Exit from the United States at Air and Sea Ports of Departure,” docket DHS-2008-0039.

DATES: The hearing will be held on Friday, June 13, 2008, from 9:30 a.m. to 4 p.m., Eastern Daylight Time.

ADDRESSES: The hearing will be held at the Hyatt Regency Crystal City at Ronald Reagan Washington National Airport, 2799 Jefferson Davis Highway, Arlington, Virginia, 22202.

FOR FURTHER INFORMATION CONTACT: Helen V. deThomas, US-VISIT, Department of Homeland Security; 1616 North Fort Myer Drive, 18th Floor, Arlington, Virginia, 22209 or by telephone at (202) 298-5200 (not a toll-free number).

SUPPLEMENTARY INFORMATION: On April 24, 2008, The Department of Homeland Security (DHS), United States Visitor and Immigrant Status Indicator Technology (US-VISIT) Program, published a notice of proposed rulemaking “Collection of Alien Biometric Data upon Exit from the United States at Air and Sea Ports of Departure,” at 73 FR 22065. The sixty-day public comment period for this proposed rule concludes on June 23, 2008. DHS has received a number of requests to extend the sixty-day comment period. Because the Department is operating under a statutory deadline for implementation of a US-VISIT air exit system, however, DHS will not be able to extend the comment period for this rulemaking action. In lieu of extending the comment period, DHS will hold a public hearing on this proposed rule at 9:30 a.m. on June 13, 2008, at the Hyatt Regency Crystal City at Ronald Reagan Washington National Airport, 2799 Jefferson Davis Highway, Arlington, Virginia, 22202. US-VISIT will accept written and oral comments on the proposed rule during this meeting. All comments received during this public meeting will be included in the public docket (DHS-2008-0039) for this rulemaking action.

Although DHS will accept comments on any aspect of this proposed rule, the most helpful comments would specifically address discrete elements of the proposed rule, including on-point operational and financial data and the potential economic and business impacts of the performance standards proposed under this rule, including the alternatives discussed in this proposed rule and the underlying assumptions and analyses related to those alternatives. The most useful comments would include information on how DHS could accomplish the requirements of the proposed rule and any alternatives that would accomplish the result embodied in the proposed rule that would reduce the burden on travelers and the travel industry without sacrificing accuracy in the collection of biometric information. DHS also is interested in public comment on the regulatory impact assessment supporting this proposed rule, including:

• The cost models of each alternative, including all assumptions that underlie the labor costs;

• Any cost-sharing alternatives to the proposals presented between the carriers and the Government;

• The assumptions and numbers used to develop the carrier and Government alternatives; and

• The potential for cost savings for alternatives not included as options in the proposed rule.

Anyone wishing to speak and/or make a presentation during the public meeting must contact Helen V. deThomas, US-VISIT, Department of Homeland Security, by telephone at (202) 298-5200 (not a toll-free number), by facsimile at (202) 298-5201, or by e-mail at helen.dethomas@dhs.gov, not later than June 10, 2008, three business days prior to the hearing date and provide three copies of any written statement or presentation materials so that they may be placed on the agenda. US-VISIT reserves the right to limit the number of presenters and the time allowed for presentations to accommodate numerous presenters with different points of view.

Additionally, if you need accommodations because of a disability or require additional information, please contact Helen V. deThomas at the above telephone number or e-mail address.

Shonnie Lyon,
Acting Deputy Director, US-VISIT.

[FR Doc. E8-12021 Filed 5-28-08; 8:45 am]

BILLING CODE 9111-97-P